DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Application and other forms utilized by the National Health Service Corps (NHSC) Scholarship Program, the NHSC Students to Service Loan Repayment Program (S2S LRP), and the Native Hawaiian Health Scholarship Program (NHHSP).

OMB No.: 0915-0146—Revision.

Abstract: Administered by HRSA's Bureau of Clinician Recruitment and Service (BCRS), the National Health Service Corps (NHSC) Scholarship Program (SP), NHSC Students to Service Loan Repayment Program (S2S LRP), and the Native Hawaiian Health Scholarship Program (NHHSP), provide scholarships or loan repayment to qualified students who are pursuing primary care health professions education and training. In return, students agree to provide primary health care services in medically underserved communities located in federally designated Health Professional Shortage Areas (HPSAs) once they are fully trained and licensed health professionals. Awards are made to applicants who demonstrate the greatest potential for successful completion of their education and training, as well as commitment to providing primary health care services to communities of greatest need. The program applications, forms, and supporting documentation are used to collect necessary information from applicants and participants that will facilitate the selection of the best qualified candidates for these competitive awards, and to monitor participants' enrollment in school or in postgraduate training.

Although some program forms vary (see program-specific burden charts below), general forms include: The Program Application; Academic and Non-Academic Letters of Recommendation; the Authorization to Release Information; and the Acceptance/Verification of Good Standing Report. Additional forms for the NHSC SP include the Data Collection Worksheet, which is completed by the educational institutions of program participants; the Post Graduate Training Verification Form (formerly the Deferment Request Form applicable for S2S participants), which is completed by program participants and their residency director; and the Enrollment Verification Form, which is completed by program participants and the educational institution for each academic term of the program.

Need and Proposed Use of the Information: The NHSC SP, S2S LRP, and NHHSP applications, forms, and supporting documentation are used to collect necessary information from applicants that will enable BCRS to make determinations about the competitive awards.

Likely Respondents: Qualified students who are pursuing primary care health professions education and training and are interested in working with underserved populations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

NHSC Scholarship Program

Form name | Number of respondents | Number of responses per respondent | Total responses | Average burden per response (in hours) | Total burden hours
NHSC Scholarship Program Application | 1800 | 1 | 1800 | 2.00 | 3600
Letters of Recommendation | 1800 | 2 | 3600 | .50 | 1800
Authorization to Release Information | 1800 | 1 | 1800 | .10 | 180
Acceptance/Verification of Good Standing Report | 1800 | 1 | 1800 | .25 | 450
Receipt of Exceptional Financial Need Scholarship | 200 | 1 | 200 | .25 | 50
Data Collection Worksheet | 400 | 1 | 400 | 1.00 | 400
Post Graduate Training Verification Form | 100 | 1 | 100 | .50 | 50
Enrollment Verification Form | 600 | 2 | 1200 | .50 | 600
Total | 1100 |  | 1700 |  | 1050
Verification of Disadvantaged Background Status | 300 | 1 | 300 | .25 | 75
Total | 7700 |  | 9500 |  | 6155

The annual estimate of burden for participants/schools/residency programs is as follows:

NHSC Students to Service Loan Repayment Program

Native Hawaiian Health Scholarship Program

Form name* | Number of respondents | Number of responses per respondent | Total responses | Average burden per response (in hours) | Total burden hours
Native Hawaiian Health Scholarship Program Application (includes Forms A-E: Applicant Resume Instructions and Guidelines; NHHSP Questionnaire and Narrative Statement; Conflicting Federal Service Memo; Debarment, Suspension, Disqualification and Related Matters Certification; and Delinquent Federal Debt) | 250 | 1 | 250 | 1.00 | 250.00
NHSC Students to Service Program Application | 100 | 1 | 100 | 2.00 | 200.00
Letters of Recommendation | 100 | 2 | 200 | .50 | 100.00
Authorization to Release Information | 100 | 1 | 100 | .10 | 10.00
Acceptance/Verification of Good Standing Report | 100 | 1 | 100 | .25 | 25.00
Receipt of Exceptional Financial Need Scholarship | 4 | 1 | 4 | .25 | 1.00
Verification of Disadvantaged Background Status | 25 | 1 | 25 | .25 | 6.25
Post Graduate Training Verification Form | 150 | 1 | 150 | .50 | 75.00
Total | 579 |  | 679 |  | 417.25
Letters of Recommendation (includes Forms H and I: Academic Faculty/Advisor Evaluation of Applicant and Employer Evaluation of Applicant) | 250 | 2 | 500 | .25 | 125.00
Authorization to Release Information (Form F) | 250 | 1 | 250 | .25 | 62.50
Acceptance/Verification of Good Standing Report (includes Form G: Course Curriculum Worksheet) | 30 | 12 | 360 | .25 | 90.00
Total | 780 |  | 1360 |  | 527.50
*Please note that the forms listed above account for supporting documentation which may be uploaded as part of the application or associated with the supplemental forms.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: December 30, 2013.
Bahar Niakan,
Director, Division of Policy and Information Coordination.

[FR Doc. 2013-31590 Filed 1-6-14; 8:45 am]

BILLING CODE 4165-15-P